DEPARTMENT OF COMMERCE

International Trade Administration

A-570-806

Silicon Metal from the People's Republic of China: Notice of Final Results of 2005/2006 New Shipper Reviews

AGENCY: Import Administration, International Trade Administration, Department of Commerce.

SUMMARY: On May 21, 2007, the Department of Commerce (“the Department”) published the preliminary results of its new shipper reviews of the antidumping duty order on silicon metal from the People's Republic of China (“PRC”). See Silicon Metal From the People's Republic of China: Preliminary Results of the 2005/2006 New Shipper Reviews, 72 FR 28467 (May 21, 2007) (Preliminary Results). Based on our analysis of the record, including information obtained since the preliminary results, we have made changes to the margin calculations for both Jiangxi Gangyuan Silicon Industry Co. Ltd. (“Jiangxi Gangyuan”) and Shanghai Jinneng International Trade Co., Ltd.(Shanghai Jinneng”). See Final Results of Review section, below.

EFFECTIVE DATE: October 16, 2007.

FOR FURTHER INFORMATION CONTACT: Scot Fullerton or Michael Quigley, AD/CVD Operations, Office 9, Import Administration, International Trade Administration, U.S. Department of Commerce, 14th Street and Constitution Avenue, NW., Washington, DC 20230; telephone: (202) 482-1386 or (202) 482-4047, respectively.

SUPPLEMENTARY INFORMATION:

Background

On May 21, 2007, the Department published the preliminary results of its new shipper reviews of the antidumping duty order on silicon metal from the PRC, and invited parties to comment on the preliminary results. See Preliminary Results. The new shipper reviews cover one exporter, Shanghai Jinneng and its affiliated producer, Datong Jinneng Industrial Silicon Co., Inc. (“Datong Jinneng”), and one producer/exporter: Jiangxi Gangyuan (hereinafter collectively “Respondents”). See Preliminary Results. The period of review (“POR”) for these new shipper reviews is June 1, 2005, through May 31, 2006.

On June 11, 2007, we received additional data from both Respondents and Globe Metallurgical Inc. (“Petitioner”) regarding factors of production. On June 25, 2007, we received Respondents' case brief, and on June 26, 2007, we received Petitioner's case brief. On July 2, 2007, we received the Respondents' rebuttal brief, and on July 3, 2007, we received the Petitioner's rebuttal brief. On July 30, 2007, we held both a public and a closed hearing, and the transcripts of these hearings were placed on the record on August 6, 2007.

Scope of the Order

The product covered by the order and this review is silicon metal containing at least 96.00 but less than 99.99 percent of silicon by weight, and silicon metal with a higher aluminum content containing between 89 and 96 percent silicon by weight. The merchandise under investigation is currently classifiable under item numbers 2804.69.10 and 2804.69.50 of the Harmonized Tariff Schedule of the United States (“HTSUS”) as a chemical product, but is commonly referred to as a metal. Semiconductor-grade silicon (silicon metal containing by weight not less than 99.99 percent of silicon and provided for in subheading 2804.61.00 of the HTSUS) is not subject to this order. This order is not limited to silicon metal used only as an alloy agent or in the chemical industry. Although the HTSUS subheading is provided for convenience and customs purposes, the written description of the merchandise is dispositive.

New Shipper Status

For these final results, no party has contested the bona fides of either Respondent's sales, therefore we continue to find, as in the Preliminary Results, that both Respondents have met the requirements to qualify as a new shipper during the POR and that the Respondents' sale of silicon metal to the United States is an appropriate transaction for a new shipper.

Changes Since the Preliminary Results

Based on the comments received from the interested parties, we have made changes to the margin calculation for both Jiangxi Gangyuan and Shanghai Jinneng.

Analysis of Comments Received

In the case and rebuttal briefs received from the parties after the Preliminary Results, we received comments on several issues, including the surrogate country selection and surrogate values used to value (1) electricity and (2) overhead, selling, general and administrative expenses, and profit . All issues raised in the case briefs are addressed in the Issues and Decision Memorandum, which is hereby adopted by this notice. A list of the issues raised, all of which are in the Issues and Decision Memorandum, is attached to this notice as Appendix I. Parties can find a complete discussion of all issues raised in the briefs and the corresponding recommendations in this public memorandum on file in the Central Records Unit (“CRU”), room B-099 of the Herbert C. Hoover Building. In addition, a complete version of the Issues and Decision Memorandum can be accessed directly on the Web at <http://ia.ita.doc.gov>. The paper copy and electronic version of the Issues and Decision Memorandum are identical in content.

Final Results of Review

We determine that the following antidumping duty margins exist:

Silicon Metal from the PRC
Manufacturer/Exporter | Weighted-Average Margin (Percent)
Shanghai Jinneng International Trade Company Ltd. | 7.93
Jiangxi Gangyuan Silicon Industry Co. Ltd. | 50.62
PRC-wide Rate | 139.49

For details on the calculation of the antidumping duty margin for Shanghai Jinneng, see Memorandum to the File, through Scot T. Fullerton, Program Manager, from Michael Quigley, International Trade Analyst, regarding Silicon Metal from the People's Republic of China - Analysis Memorandum for the Final Results of New Shipper Review of Shanghai Jinneng International Trade Company Ltd. (October 9, 2007). A public version of this memorandum is on file in the CRU.

For details on the calculation of the antidumping duty margin for Jiangxi Gangyuan, see Memorandum to the File, through Scot T. Fullerton, Program Manager, from Michael Quigley, International Trade Analyst, regarding Silicon Metal from the People's Republic of China - Analysis Memorandum for the Final Results of New Shipper Review of Jiangxi Gangyuan Silicon Industry Co. Ltd.(October 9, 2007). A public version of this memorandum is also on file in the CRU.

Assessment of Antidumping Duties

The Department will determine, and U.S. Customs and Border patrol (“CBP”) shall assess, antidumping duties on all appropriate entries. The Department intends to issue assessment instructions to CBP 15 days after the date of publication of these final results of review. For assessment purposes for companies with a calculated rate, where possible, we calculated importer-specific assessment rates for silicon metal from the PRC via ad valorem duty assessment rates based on the ratio of the total amount of the dumping margins calculated for the examined sales to the total entered value of those same sales during the POR. We will instruct CBP to assess antidumping duties on all appropriate entries covered by this review.

Cash Deposits

The following cash-deposit requirements will be effective upon publication of the final results of these new shipper reviews for all shipments of subject merchandise from Shanghai Jinneng and Jiangxi Gangyuan entered, or withdrawn from warehouse, for consumption on or after the publication date, as provided by section 751 (a) (2) (C) of the Tariff Act of 1930, as amended (“the Act”): (1) For subject merchandise produced and exported by Jiangxi Gangyuan, or produced by Datong Jinneng and exported by Shanghhai Jinneng, the cash-deposit rate will be that established in the final results of these reviews; (2) for subject merchandise exported by Shanghai Jinneng but not manufactured by Datong Jinneng, the cash deposit rate will continue to be the PRC-wide rate (i.e., 139.49 percent); and (3) for subject merchandise exported by Shanghai Jinneng, but manufactured by any other party, the cash deposit rate will be the PRC-wide rate (i.e., 139.49 percent).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These reviews and notice are in accordance with sections 751(a)(1), 751(a)(2) and 777(i)(1) of the Act and 19 CFR 351.221(b)(5).

Dated: October 9, 2007.
David M. Spooner,
Assistant Secretary for Import Administration.

Appendix I

General Issues

Comment 1: Selection of Surrogate Country

Comment 2: Electricity Valuation

Comment 3: Selection of Financial Statements

Comment 4: Quartz Valuation

Comment 5: Silica Fume By-Product Valuation

Comment 6: Steam Coal Valuation

Comment 7: Charcoal Valuation

Comment 8: Electrode Usage

Company-Specific Issues: Jiangxi Gangyuan

Comment 9: Clerical Errors in Calculating Freight

Comment 10: June 2005 Electricity Consumption

Comment 11: Work-In-Process Inventory

Comment 12: Silica Fume Offset During POR

Company-Specific Issues: Shanghai Jinneng / Datong Jinneng

Comment 13: Silicon Metal Fines Valuation

Comment 14: Packing Bags Valuation

Comment 15: High Aluminum Quartz

Comment 16: Quartz Yield Loss

Comment 17: Instructions to Customs

[FR Doc. E7-20344 Filed 10-15-07; 8:45 am]

BILLING CODE 3510-DS-S